DEPARTMENT OF HEALTH AND HUMAN SERVICES

Nominations Requested/Open for the 2005 Secretary's Innovation in Prevention Awards

AGENCY: Office of the Secretary, Department of Health and Human Services.

ACTION: Notice.

SUMMARY: The Department of Health and Human Services (HHS) seeks nominations of public and private sector organizations to receive the 2005 Secretary's Innovation in Prevention Awards Initiative. This activity is part of a broader Departmental initiative called Steps to a Healthier U.S. that advances President George W. Bush's HealthierUS goal of helping Americans live longer, better and healthier lives. The statutory authority for this health promotion activity is Section 1703 [42 U.S.C. 300u-2] from Title XVII of the Public Health Service Act. The Secretary's Innovation in Prevention Awards Initiative will identify and celebrate outstanding organizations that have implemented innovative and creative chronic disease prevention and health promotion programs. To be nominated, a program must address at least one of the following risk factors:

(1) Obesity

(2) Physical activity; and

(3) Nutrition

The Department intends that these awards will provide an opportunity to increase public awareness of creative approaches to develop and expand innovative health programs and duplication of successful strategies.

Awards will be given in the following categories:

• Faith-Based and Community Initiatives

• Health Care Delivery

• Healthy Workplace

—Large Employer >500 employees

—Small Employer <500 employees

• Non-Profit

• Public Sector

• Schools (K-12)

The following criteria will be taken into consideration upon review:

• Creativity/Innovation

• Leadership

• Sustainability

• Replicability

• Effectiveness

• Receipt of national award(s)

DATES: Nominations must be received by 5:00 PM EDT, June 9, 2005.

Nominations: Partnership for Prevention, a 501(c)3 focused on health promotion, is coordinating the nomination process for the Innovation in Prevention Awards on behalf of the HHS. Nominations can only be made online at http://www.prevent.org/awards/. For more information, contact Partnership for Prevention at (202) 785-4943 or 2005 InnovationAwards@prevent.org. Partnership for Prevention may request additional information as necessary.

SUPPLEMENTARY INFORMATION: HHS is the U.S. government's principal agency for promoting and protecting the health of all Americans. HHS manages many programs, covering a broad spectrum of health promotion and disease prevention services and activities. Leaders in the business community, State and local government officials, tribes and tribal entities and charitable, faith-based, and community organizations have expressed an interest in working with the Department to promote healthy choices and behaviors. The Secretary welcomes this interest. With this notice, the Secretary outlines opportunities to identify and celebrate outstanding organizations that have implemented innovative and creative chronic disease prevention and health promotion programs.

Dated: April 20, 2005.
Donald A. Young,
Acting Principal Deputy Assistant Secretary for Planning and Evaluation.

[FR Doc. 05-8461 Filed 4-26-05; 8:45 am]

BILLING CODE 4154-05-P